DEPARTMENT OF DEFENSE

Defense Acquisition Regulations System

[Docket Number DARS-2015-0006]

Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act (44 U.S.C. chapter 35).

DATES: Consideration will be given to all comments received by May 27, 2015.

SUPPLEMENTARY INFORMATION:

Title and OMB Number: Information Collection in Support of the DoD Acquisition Process (Various Miscellaneous Requirements), Defense Federal Acquisition Regulations Supplement (DFARS) parts 208, 209, and 235 and associated clauses in part 252; OMB Control Number 0704-0187.

Type of Request: Extension.

Number of Respondents: 491.

Responses per Respondent: Approximately 2.

Annual Responses: 1,062.

Average Burden per Response: 1.5 hours.

Annual Burden Hours: 1,464.

Needs and Uses: This information collection requirement pertains to information required in DFARS parts 208, 209, 235, and associated clauses in part 252 that an offeror must submit to DoD in response to a request for proposals or an invitation for bids or a contract requirement. DoD uses this information to—

• Determine whether to provide precious metals as Government-furnished material;

• Determine an entity's eligibility for award of a contract under a national security program due to ownership or control by a foreign government;

• Determine whether there is a compelling reason for a contractor to enter into a subcontract in excess of $30,000 with a firm, or subsidiary of a firm, that is identified in the List of Parties Excluded from Federal Procurement and Nonprocurement as being ineligible for award of Defense subcontracts because it is owned or controlled by the government of a country that is a state sponsor of terrorism;

• Determine an entity's eligibility for award of a contract due to ownership or control by the government of a country that is a state sponsor of terrorism;

• Evaluate claims of indemnification for losses or damages occurring under a research and development contract; and

• Keep track of radio frequencies on electronic equipment under research and development contracts so that the user does not override or interfere with the use of that frequency by another user.

Affected Public: Businesses or other for-profit and not-for-profit institutions.

Frequency: On occasion.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the Internet at http://www.regulations.gov as they are received without change, including any personal identifiers or contact information provided. To confirm receipt of your comment(s), please check http://www.regulations.gov approximately two to three days after submission to verify posting (except allow 30 days for posting of comments submitted by mail).

DoD Public Collections Clearance Officer: Mr. Frederick C. Licari.

Written requests for copies of the information collection proposal should be sent to Mr. Licari at: Publication Collections Program, WHS/ESD Information Management Division, 4800 Mark Center Drive, 2nd Floor, East Tower, Suite 02G09, Alexandria, VA 22350-3100.

Manuel Quinones,
Editor, Defense Acquisition Regulations System.

[FR Doc. 2015-09680 Filed 4-24-15; 8:45 am]

BILLING CODE 5001-06-P